DEPARTMENT OF ENERGY

Federal Energy Regulatory Commission

Combined Notice of Filings #1

Take notice that the Commission received the following electric corporate filings:

Docket Numbers: EC19-26-000.

Applicants: Buckleberry Solar, LLC.

Description: Amendment to November 9, 2018 Application for Authorization Under Section 203 of the Federal Power Act, et al. of Buckleberry Solar, LLC.

Filed Date: 12/17/18.

Accession Number: 20181217-5404.

Comments Due: 5 p.m. ET 12/26/19.

Take notice that the Commission received the following electric rate filings:

Docket Numbers: ER10-1107-006.

Applicants: Pacific Gas and Electric Company.

Description: Updated Market Power Analysis for the CAISO BAA Market of Pacific Gas and Electric Company.

Filed Date: 12/19/18.

Accession Number: 20181219-5133.

Comments Due: 5 p.m. ET 2/20/19.

Docket Numbers: ER10-2835-009.

Applicants: Google Energy LLC.

Description: Triennial Market Power Analysis for the SPP Region of Google Energy LLC.

Filed Date: 12/18/18.

Accession Number: 20181218-5466.

Comments Due: 5 p.m. ET 2/19/19.

Docket Numbers: ER16-1258-002; ER13-1266-019; ER15-2211-016; ER16-438-004.

Applicants: Grande Prairie Wind, LLC, Marshall Wind Energy LLC, CalEnergy, LLC, MidAmerican Energy Services, LLC.

Description: Triennial Market Power Update for the Southwest Power Pool Region of the BHE Renewables Companies.

Filed Date: 12/18/18.

Accession Number: 20181218-5465.

Comments Due: 5 p.m. ET 2/19/19.

Docket Numbers: ER17-1376-006.

Applicants: Midcontinent Independent System Operator, Inc.

Description: Compliance filing: 2018-12-18_Stored Energy Resource—Type II Compliance Filing to be effective 12/1/2017.

Filed Date: 12/18/18.

Accession Number: 20181218-5376.

Comments Due: 5 p.m. ET 1/8/19.

Docket Numbers: ER17-2386-004.

Applicants: Great Bay Solar I, LLC.

Description: Compliance filing: Compliance Filing to be effective 11/1/2017.

Filed Date: 12/19/18.

Accession Number: 20181219-5052.

Comments Due: 5 p.m. ET 1/9/19.

Docket Numbers: ER18-554-003.

Applicants: Carville Energy LLC.

Description: Compliance filing: Reactive Service Rate Schedule Compliance Filing to be effective 3/1/2018.

Filed Date: 12/19/18.

Accession Number: 20181219-5084.

Comments Due: 5 p.m. ET 1/9/19.

Docket Numbers: ER19-178-001.

Applicants: PACE RENEWABLE ENERGY 1 LLC.

Description: Tariff Amendment: Supplemental—Ownership Info to be effective 12/20/2018.

Filed Date: 12/19/18.

Accession Number: 20181219-5029.

Comments Due: 5 p.m. ET 1/9/19.

Docket Numbers: ER19-302-001.

Applicants: NTE Southeast Electric Company, LLC.

Description: Second Supplement to December 12, 2018 NTE Southeast Electric Company, LLC tariff filing [Asset Appendices].

Filed Date: 12/17/18.

Accession Number: 20181217-5387.

Comments Due: 5 p.m. ET 1/7/19.

Docket Numbers: ER19-464-000.

Applicants: Vermillion Power, L.L.C.

Description: Amendment to December 3, 2018 Vermillion Power, L.L.C. tariff filing.

Filed Date: 12/19/18.

Accession Number: 20181219-5131.

Comments Due: 5 p.m. ET 1/2/19.

Docket Numbers: ER19-592-000.

Applicants: Valentine Solar, LLC.

Description: Baseline eTariff Filing: Valentine Solar Initial Market-Based Rate Application Filing to be effective 2/17/2019.

Filed Date: 12/18/18.

Accession Number: 20181218-5381.

Comments Due: 5 p.m. ET 1/8/19.

Docket Numbers: ER19-593-000.

Applicants: El Paso Electric Company.

Description: § 205(d) Rate Filing: Non-Substantive Consolidation of Market-Based Rate Tariff Records to be effective 12/19/2018.

Filed Date: 12/18/18.

Accession Number: 20181218-5390.

Comments Due: 5 p.m. ET 1/8/19.

Docket Numbers: ER19-594-000.

Applicants: Southern California Edison Company.

Description: § 205(d) Rate Filing: LGIA Daggett Solar 2 LLC SA No. 224 to be effective 2/17/2019.

Filed Date: 12/18/18.

Accession Number: 20181218-5413.

Comments Due: 5 p.m. ET 1/8/19.

Docket Numbers: ER19-595-000.

Applicants: Southern California Edison Company.

Description: § 205(d) Rate Filing: LGIA Daggett Solar 3 LLC SA No. 225 to be effective 2/17/2019.

Filed Date: 12/18/18.

Accession Number: 20181218-5414.

Comments Due: 5 p.m. ET 1/8/19.

Docket Numbers: ER19-596-000.

Applicants: CPV Keenan II Renewable Energy Company, LLC.

Description: § 205(d) Rate Filing: Revised Market-Based Rate Tariff to be effective 2/18/2019.

Filed Date: 12/19/18.

Accession Number: 20181219-5027.

Comments Due: 5 p.m. ET 1/9/19.

Docket Numbers: ER19-597-000.

Applicants: Southern California Edison Company.

Description: Tariff Cancellation: Cancel GIA & DSA LA County Flood Control District San Gabriel Dam Hydroelectric to be effective 10/31/2018.

Filed Date: 12/19/18.

Accession Number: 20181219-5032.

Comments Due: 5 p.m. ET 1/9/19.

Docket Numbers: ER19-598-000.

Applicants: Midcontinent Independent System Operator, Inc.

Description: § 205(d) Rate Filing: 2018-12-19_SA 3222 OTP-OTP GIA (J510) to be effective 12/5/2018.

Filed Date: 12/19/18.

Accession Number: 20181219-5081.

Comments Due: 5 p.m. ET 1/9/19.

Docket Numbers: ER19-599-000.

Applicants: American Transmission Systems, Incorporation, PJM Interconnection, L.L.C.

Description: § 205(d) Rate Filing: ATSI submits Revised Interconnection Agreement SA No. 3994 to be effective 2/18/2019.

Filed Date: 12/19/18.

Accession Number: 20181219-5103.

Comments Due: 5 p.m. ET 1/9/19.

Docket Numbers: ER19-600-000.

Applicants: American Transmission Systems, Incorporation, PJM Interconnection, L.L.C.

Description: § 205(d) Rate Filing: ATSI submits a ECSA, Service Agreement No. 5137 re: GM Cleveland RTU Replacement to be effective 2/18/2019.

Filed Date: 12/19/18.

Accession Number: 20181219-5114.

Comments Due: 5 p.m. ET 1/9/19.

Docket Numbers: ER19-601-000.

Applicants: AEP Energy Partners, Inc.

Description: § 205(d) Rate Filing: MBR Tariff, FERC Electric Tariff for Market Bases Sales to be effective 3/1/2019.

Filed Date: 12/19/18.

Accession Number: 20181219-5115.

Comments Due: 5 p.m. ET 1/9/19.

Docket Numbers: ER19-602-000.

Applicants: Southwest Power Pool, Inc., American Electric Power Service Corporation.

Description: § 205(d) Rate Filing: Cost Recovery Filing on Behalf of American Electric Power Service Corp. to be effective 3/1/2019.

Filed Date: 12/19/18.

Accession Number: 20181219-5116.

Comments Due: 5 p.m. ET 1/9/19.

Docket Numbers: ER19-603-000.

Applicants: PJM Interconnection, L.L.C.

Description: § 205(d) Rate Filing: Original ISA and ICSA SA Nos. 5245 and 5250; Queue No. AB2-067/AC1-044 to be effective 12/31/9998.

Filed Date: 12/19/18.

Accession Number: 20181219-5117.

Comments Due: 5 p.m. ET 1/9/19.

Docket Numbers: ER19-604-000.

Applicants: PJM Interconnection, L.L.C.

Description: § 205(d) Rate Filing: Revisions to Sch.12 of the OA to reflect termination of GreenHat Energy, LLC to be effective 2/19/2019.

Filed Date: 12/19/18.

Accession Number: 20181219-5118.

Comments Due: 5 p.m. ET 1/9/19.

Docket Numbers: ER19-605-000.

Applicants: Republic Transmission, LLC.

Description: Baseline eTariff Filing: Baseline Rate Transmission Filing for Republic Transmission to be effective 12/19/2018.

Filed Date: 12/19/18.

Accession Number: 20181219-5119.

Comments Due: 5 p.m. ET 1/9/19.

Docket Numbers: ER19-606-000.

Applicants: AEP Generation Resources Inc.

Description: § 205(d) Rate Filing: MBR Tariff, FERC Electric Tariff For Market-Based Sales to be effective 3/1/2014.

Filed Date: 12/19/18.

Accession Number: 20181219-5120.

Comments Due: 5 p.m. ET 1/9/19.

Docket Numbers: ER19-607-000.

Applicants: PJM Interconnection, L.L.C.

Description: § 205(d) Rate Filing: Revisions to Sch. 12 of OA to reflect termination of Amerigreen Energy, LLC to be effective 2/19/2019.

Filed Date: 12/19/18.

Accession Number: 20181219-5122.

Comments Due: 5 p.m. ET 1/9/19.

Docket Numbers: ER19-608-000.

Applicants: Commonwealth Edison Company, PJM Interconnection, L.L.C.

Description: § 205(d) Rate Filing: ComEd submits revisions to Att. H-13 re: Marengo Battery Wholesale Dist. Charges to be effective 12/20/2018.

Filed Date: 12/19/18.

Accession Number: 20181219-5138.

Comments Due: 5 p.m. ET 1/9/19.

Docket Numbers: ER19-609-000.

Applicants: Pacific Gas and Electric Company.

Description: Request for One-time Tariff Waiver of Pacific Gas and Electric Company.

Filed Date: 12/19/18.

Accession Number: 20181219-5140.

Comments Due: 5 p.m. ET 1/9/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 19, 2018.
Nathaniel J. Davis, Sr.,
Deputy Secretary.

[FR Doc. 2018-28043 Filed 12-26-18; 8:45 am]

BILLING CODE 6717-01-P